DEPARTMENT OF AGRICULTURE

Forest Service

Interface Recreation Trails Project

AGENCY: Forest Service, USDA.

ACTION: Revised notice of intent to prepare an environmental impact statement.

SUMMARY: This is a revision of the notice of intent published on November 22, 2000 (pages 76332-76333). This notice documents changes in the information in the previous notice of intent. The changes are: (1) A change in the responsible official from the District Ranger to the Forest Supervisor, and (2) A delay in filing the draft and final environmental impact statement.

The Forest Service intends to prepare an environmental impact statement (EIS) to disclose the environmental consequences of the proposed Interface Recreation Trails Project on the Calaveras Ranger District of the Stanislaus National Forest. The agency proposes to design a system of recreation routes, determine the uses that can occur on each route in the system, and develop measures to protect natural resources on approximately 8,700 acres on National Forest System lands. Hiking, horseback riding, mountain bike riding, off-highway vehicle riding, and highway licensed vehicle riding are the uses being considered in this analysis. The purpose of the proposal is to provide a variety of recreation opportunities for route users while protecting the natural resources, minimizing conflicts between recreationists and others.

DATES: The comment period for this analysis closed January 8, 2001. This is not a solicitation for comments. The draft environmental impact statement is expected February 2003 and the final environmental impact statement is expected June 2003.

ADDRESSES: Send written comments to Robert W. Griffith, District Ranger, Calaveras Ranger District, Stanislaus National Forest, USDA Forest Service, PO Box 500, Hathaway Pines, California, 95233.

FOR FURTHER INFORMATION CONTACT: Greg Casselberry, Planning Team Leader, telephone: (209) 795-1381, extension 321. Email: gcasselberry@fs.fed.us.

SUPPLEMENTARY INFORMATION:

Purpose and Need for Action

The existing trail system in the Interface Area developed primarily as a result of users adopting old logging and mining roads, skid trails, fuel breaks, and abandoned water ditches for their trail use. Over time, users constructed additional trails to access new areas, avoid impassable sections of existing trails, form loops and connectors with other trails, and provide the desired variety of challenges and experiences.

Over the last 30 years, local residents, second homeowners, and their friends have used and enjoyed this system of routes for both non-motorized and motorize recreation. During the mid-1990s, the need for a designed trail system and a site-specific management analysis for the Interface Area became evident. Increased trails use, resource impacts on some trail segments, trail-user conflict, and complaints from residents such as those with homes near Forest Road 5N95Y or near trail system access points from subdivisions prompted the Forest Service to begin project-level analysis and planning in the area.

The purpose or goal in designing the recreation route system, designating uses, and developing resource protection measures is to provide a variety of recreation opportunities for all trail users, while protecting natural resources, minimizing conflicts between trail users and others.

Proposed Action

The proposed project is located in Calaveras County, California within the Calaveras Ranger District of the Stanislaus National Forest in portions of sections 1, 2, 11, 12, 13, 14, 23, 24, 26, T.4N., R.14E., a portion of section 18, T.4N., R.15E., portions of sections 13, 24, 25, 26, 35, 36, T.5N., R.14E., and portions of sections 7, 8, 17, 18, 19, 20, 29, 30, T.5N., R.15E., MDB&M. It is adjacent to the western boundary of the communities of Hathaway Pines, Avery, Arnold, and White Pines.

Under the current proposal being analyzed, non-motorized and motorized recreation use (shared use) will continue to be allowed on 19.5 miles of existing trails and roads. 16.6 miles of existing trails and roads will be designated and available for non-motorized recreation use only. 17.4 miles of existing roads will be routes for highway-licensed vehicles only. There will be 10.0 miles of multiple use routes and 10.7 miles of non-motorized trails constructed. 26.5 miles of existing trails and roads will be closed. Five gates will be closed to public motorized traffic. One mile of Forest Road 5N95Y will be chipsealed. Parking areas will be established on Forest Road 5N52, and County Road 323 to access the trail system. A low-water crossing and approach will be constructed at Slick Rock Crossing. Street legal vehicles only zones that are a minimum of ¼ mile wide will be established adjacent to subdivisions. A permanent public easement for the segment of the trail that crosses private land located in the SW¼ of the NE¼ of section 30, T.5N., R.15E. will be sought from the landowner. Regulatory orders will be developed to enforce trail use restrictions, trail closures, street legal zone restrictions, and gate closures.

Possible Alternatives

A range of alternatives to the proposed action will be considered. The alternatives will be designed to provide different ways to address and respond to significant issues and to fulfill the purpose and need for action. A reasonable range of alternatives will be evaluated and reasons given for eliminating some alternatives from detailed study. A no action alternative is required. Under the no action alternative, the recreation route system, recreation route uses, and Forest Service management practices would continue unchanged, just as they are today.

Responsible Official

The Forest Supervisor, Stanislaus National Forest, 19777 Greenley Road, Sonora, California, 95370-5909 is the Responsible Official who will decide what actions are to be implemented to provide a variety of recreation opportunities for route users within the project area. He will document his decisions and rationale in a Record of Decision.

Nature of Decision To Be Made

The decision to be made is whether to implement the proposed action as described above, to meet the purpose and need for action through some other combination of activities, or take no action at this time.

Scoping Process

This revised notice of intent is not a solicitation for public comment. The comment period for this analysis closed January 8, 2001 and no additional comments will be considered until the draft environmental impact statement is available for public review. The scoping process was used to identify potential issues related to the proposed action, significant issues to be analyzed in depth, alternatives to the proposed action, and potential environmental effects of the proposed action and its alternatives.

Preliminary Issues

Three preliminary issues have been identified: (1) Disturbances by human presence and noise on the trails and roads may adversely impact wildlife species, (2) sounds of motorized vehicles on the trails and roads may have a negative impact on adjacent landowners, and (3) opportunities for recreation may be affected by the trail and road mileage available as well as by the uses allowed on each route.

Comment Requested

This Revised Notice of Intent is not a solicitation for public comment. The comment period for this analysis closed January 8, 2001 and no additional commnets will be considered until the draft environmental impact statement is made available for public review.

Early Notice of Importance of Public Participation in Subsequent Environmental Review

A draft environmental impact statement will be prepared for comment. The comment period on the draft environmental impact statement will be 45 days from the date the Environmental Protection Agency publishes the notice of availability in the Federal Register.

The Forest Service believes, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Authority: 40 CFR 1501.7 and 1508.22; Forest Service Handbook 1909.15, Section 21

Dated: December 20, 2002.
Glenn Gottschall,
Acting Forest Supervisor—Stanislaus National Forest.

[FR Doc. 02-32808 Filed 12-27-02; 8:45 am]

BILLING CODE 3410-11-P